FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier and Ocean Freight Forwarder Transportation Intermediary Applicants

PMK International LLC, 18913 8th Avenue SW., Seattle, WA 98166, Officers: Mary E. Kastner, President (Qualifying Individual), Patrick M. Kastner, Vice President.

K.E.I. Enterprise dba KEI Logix, 375 W. Victoria Street, Gardena, CA 90248, Officer: Kevin Kim, President (Qualifying Individual).

Ba-Shi Yuexin Logistics Development Co. Ltd., 17890 Castleton Street, Suite 367, City of Industry, CA 91748, Officers: Qi Ding, Secretary (Qualifying Individual), Ke Fei Liu, President/CEO.

Ocean Freight, Forwarder—Ocean Transportation Intermediary Applicant

CR International, 192 Cherry Hill Road, NW., Cedar Rapids, IA 52405, Roxann M. Von Lienen, Sole Proprietor.

Dated: May 30, 2003.
Bryant L. VanBrakle,
Secretary.

[FR Doc. 03-14049 Filed 6-3-03; 8:45 am]

BILLING CODE 6730-01-P